DEPARTMENT OF COMMERCE

International Trade Administration

Proposed Information Collection; Comment Request; Implementation of Tariff Rate Quota Established Under the Tax Relief and Health Care Act of 2006 for Imports of Certain Cotton Woven Fabrics

AGENCY: International Trade Administration (ITA).

ACTION: Notice.

SUMMARY: The Department of Commerce, as part of its continuing effort to reduce paperwork and respondent burdens, invites the general public and other Federal agencies to take this opportunity to comment on the continuing information collections, as required by the Paperwork Reduction Act of 1995, Public Law 104-13 (44 U.S.C. 35068(2)(A)).

DATES: Written comments must be submitted on or before December 17, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Request for additional information or copies of the information collection instrument and instructions should be directed to: Laurie Mease, Room 3100, 14th and Constitution Avenue, NW., Washington, DC 20230; Phone number: (202) 482-2043 and fax number: (202) 482-2859; or via the Internet at Laurie_Mease@ita.doc.gov.

SUPPLEMENTARY INFORMATION:

I. Abstract

The Tax Relief and Heath Care Act of 2006 (“the Act”) contains provisions to assist the men's and boys” cotton shirting industry. Among these provisions, the Act creates an annual tariff rate quota (TRQ) providing for temporary reductions through December 31, 2009, in the import duties of cotton woven fabrics suitable for making men's and boys' cotton shirts (new Harmonized Tariff Schedule of the United States (HTS) headings 9902.52.08, 9902.52.09, 9902.52.10, 9902.52.11, 9902.52.12, 9902.52.13, 9902.52.14, 9902.52.15, 9902.52.16, 9902.52.17, 9902.52.18, and 9902.52.19). The reduction in duty is limited to 85 percent of the total square meter equivalents of all imported woven fabrics of cotton containing 85 percent or more by weight cotton used by manufacturers in cutting and sewing men's and boy's cotton shirts in the United States and purchased by such manufacturer during calendar year 2000.

Section 406(b)(1) of the Act requires the Secretary of Commerce to fairly allocate the tariff rate quota. More specifically, the Secretary of Commerce must issue licenses and ensure that the tariff rate quota is fairly allocated to eligible manufacturers under such headings 9902.52.08 through 9902.52.19. The TRQ is effective for goods entered or withdrawn from warehouse for consumption, on or after January 1, 2007, and will remain in force through 2009. The TRQ will be allocated each year and a TRQ allocation will be valid only in the year for which it is issued.

The Department of Commerce published regulations establishing procedures for allocation of the tariff rate quotas (72 FR 141, 15 CFR part 336). The Department must collect certain information in order to fairly allocate the TRQ to eligible persons. The Office of Management and Budget (OMB) has approved this information collection request (OMB Number 0625-0260) with an expiration date of December 31, 2007. This request for comment is for the proposed information collection after December 31, 2007.

II. Method of Collection

The information collection forms will be provided via the Internet (http://web.ita.doc.gov/tacgi/cottontrq.nsf/trqapp) and by mail to requesting firms.

III. Data

OMB Number: 0625-0260.

Form Number: ITA-4156P.

Type of Review: Regular submission.

Affected Public: Business or other for-profit organizations.

Estimated Number of Respondents: 10.

Estimated Time Per Response: 1 hour.

Estimated Total Annual Burden Hours: 10.

Estimated Total Annual Costs: $500.

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: October 11, 2007.
Gwellnar Banks,
Management Analyst, Office of the Chief Information Officer.

[FR Doc. E7-20436 Filed 10-16-07; 8:45 am]

BILLING CODE 3510-DR-P